Memorandum of April 24, 2012

Delegation of Reporting Functions Specified in Section 8 of the Belarus Democracy Act of 2004, as Amended

Memorandum for the Secretary of State

By the authority vested in me as President by the Constitution and the laws of the United States of America, including section 301 of title 3 of the United States Code, I hereby delegate to you the reporting functions conferred upon the President by section 8 of the Belarus Democracy Act of 2004 (Public Law 109-480; 22 U.S.C. 5811 note), as amended by section 5 of the Belarus Democracy and Human Rights Act of 2011 (Public Law 112-82).

You are authorized and directed to publish this memorandum in the Federal Register.

THE WHITE HOUSE,

Washington, April 24, 2012

[FR Doc. 2012-14039

Filed 6-7-12; 8:45 am]

Billing code 4710-10-P